DEPARTMENT OF TRANSPORTATION

Saint Lawrence Seaway Development Corporation

33 CFR Part 401

[Docket No. SLSDC 2005-23248]

RIN 2135-AA22

Seaway Regulations and Rules: Periodic Update, Various Categories

AGENCY: Saint Lawrence Seaway Development Corporation, DOT.

ACTION: Notice of proposed rulemaking.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The proposed changes will update the following sections of the Regulation and Rules: Condition of Vessels; Preclearance and Security for Tolls; Seaway Navigation; Toll Assessment and Payment; and Information and Reports. These proposed amendments are necessary to take account of updated procedures and/or technology and will enhance the safety of transits through the Seaway. Several of the proposed amendments are merely editorial or for clarification of existing requirements.

DATES: Any party wishing to present views on the proposed amendment may file comments with the Corporation on or before January 20, 2006.

ADDRESSES: You may submit comments [identified by DOT DMS Docket Number SLSDC 2005-23248] by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the online instructions for submitting comments.

Instructions: All submissions must include the agency name and docket number or Regulatory Identification Number (RIN) for this rulemaking. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Craig H. Middlebrook, Acting Chief Counsel, Saint Lawrence Seaway Development Corporation, 400 Seventh Street, SW., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is proposing to amend the joint regulations by updating the Regulations and Rules in various categories. The proposed changes would update the following sections of the Regulations and Rules: Condition of Vessels; Preclearance and Security for Tolls; Seaway Navigation; Toll Assessment and Payment; and Information and Reports. These updates are necessary to take account of updated procedures and/or technology, which will enhance the safety of transits through the Seaway. Many of these proposed changes are to clarify existing requirements in the regulations. Where new requirements or regulations are being proposed, an explanation for such a change is provided below.

Regulatory Notices

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

The SLSDC is proposing two amendments to the joint regulations pertaining to the Condition of Vessels. Under sections 401.16, “Propeller Direction Alarms”, and 401.17, “Pitch Indicators and Alarms”, the SLSDC is proposing additional language that would require visible and audible alarms to have a time delay of not greater than 8 seconds. In confined waters of the Seaway or while entering a lock it is important for the master/pilot to know immediately when an incorrect command is received in order to take appropriate corrective action. Currently some vessels have alarms with a 30 second delay in which time, the vessel could be outside the shipping channel or have already hit the lock bumpers.

The SLSDC is proposing to make two amendments to the joint regulations regarding the Preclearance and Security for Tolls. Under § 401.24, “Application for Preclearance”, the SLSDC is proposing to revise the location from which a vessel can obtain a preclearance form from Cornwall, Ontario to St. Lambert, Quebec. This proposed change reflects the fact that preclearance applications are now being processed at St. Lambert, Quebec instead of at Cornwall, Ontario.

For § 401.26, “Security for Tolls”, the SLSDC is proposing to add language that would allow the SLSMC manager to include charges for additional items as tie-up fees in the security for tolls.

The SLSDC is proposing to make one change to the joint regulations regarding Seaway Navigation. The proposed amendment to § 401.30, “Ballast Water and Trim”, would reflect a change to the SLSDC/SLSMC joint website making it easier for Seaway users to obtain ballast water management documents. Shippers have expressed frustration regarding their difficulties in locating these documents on the website. The Seaway Corporations have inserted a direct link on the Seaway website homepage to the relevant documents.

The SLSDC is proposing to make two changes to the joint regulations regarding Toll Assessment and Payment. Under § 401.74, “Transit Declaration”, the SLSDC is proposing to clarify that Seaway Transit Declaration Forms can be obtained from the Seaway website or the SLSMC in St. Lambert, Quebec. This function was previously performed at Cornwall, Ontario.

Additionally, the proposed amendment would remove references to specific form numbers that are no longer relevant.

The SLSDC is proposing to make one amendment to the joint regulations regarding Information and Reports. Under § 401.81, the SLSDC is proposing to require the master of a vessel involved in an accident or dangerous occurrence to notify the nearest Seaway and Canadian or U.S. Coast Guard. This proposed amendment is intended to clarify that the U.S. Coast Guard is the U.S. federal entity responsible for responding to vessel incidents and needs to be notified immediately when there is an accident or dangerous occurrence.

Regulatory Evaluation

This proposed regulation involves a foreign affairs function of the United States and therefore Executive Order 12866 does not apply and evaluation under the Department of Transportation's Regulatory Policies and Procedures is not required.

Regulatory Flexibility Act Determination

I certify this proposed regulation will not have a significant economic impact on a substantial number of small entities. The St. Lawrence Seaway Regulations and Rules primarily relate to commercial users of the Seaway, the vast majority of whom are foreign vessel operators. Therefore, any resulting costs will be borne mostly by foreign vessels.

Environmental Impact

This proposed regulation does not require an environmental impact statement under the National Environmental Policy Act (49 U.S.C. 4321, et reg.) because it is not a major federal action significantly affecting the quality of the human environment.

Federalism

The Corporation has analyzed this proposed rule under the principles and criteria in Executive Order 13132, dated August 4, 1999, and has determined that this proposal does not have sufficient federalism implications to warrant a Federalism Assessment.

Unfunded Mandates

The Corporation has analyzed this proposed rule under Title II of the Unfunded Mandates Reform Act of 1995 (Pub. L. 104-4, 109 Stat. 48) and determined that it does not impose unfunded mandates on State, local, and tribal governments and the private sector requiring a written statement of economic and regulatory alternatives.

Paperwork Reduction Act

This proposed regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation proposes to amend 33 CFR Part 401, Regulations and Rules, as follows:

PART 401—SEAWAY REGULATIONS AND RULES

Subpart A—Regulations

1. The authority citation for subpart A of part 401 continues to read as follows:

Authority: 33 U.S.C. 983(a) and 984(a) (4), as amended; 49 CFR 1.52, unless otherwise noted.

2. In § 401.16 paragraph (b) would be revised to read as follows:

§ 401.16 Propeller direction alarms.

* * * * *

(b) Visible and audible wrong-way propeller direction alarms, with a time delay of not greater than 8 seconds, located in the wheelhouse and the engineer room, unless the vessel is fitted with a device which renders it impossible to operate engines against orders from the bridge telegraph.

* * * * *

3. In § 401.17 paragraph (b) would be revised to read as follows:

§ 401.17 Pitch indicators and alarms.

* * * * *

(b) Effective April 1, 1984, visible and audible pitch alarms, with a time delay of not greater than 8 seconds, in the wheelhouse and engine room to indicate wrong pitch.

* * * * *

4. Section 401.24 would be revised to read as follows:

§ 401.24 Application for preclearance.

The representative of a vessel may, on a preclearance form (3 copies) obtained from the Manager, St. Lambert, Quebec, or downloaded from the St. Lawrence Seaway Web site at http://www.greatlakes-seaway.com, apply for preclearance, giving particulars of the ownership, liability insurance and physical characteristics of the vessel and guaranteeing payment of the fees that may be incurred by the vessel.

5. In § 401.26 paragraph (b) would be revised to read as follows:

§ 401.26 Security for Tolls.

* * * * *

(b) The security for the tolls of a vessel shall be sufficient to cover the tolls established in the St. Lawrence Seaway Tariff of Tolls for the gross registered tonnage of the vessel, cargo carried, and lockage tolls as well as security for any other charges estimated by the Manager.

* * * * *

6. In § 401.30 paragraph (e) (2) would be revised to read as follows:

§ 401.30 Ballast water and trim.

* * * * *

(e) * * *

(2) Every other vessel entering the Seaway that operates within the Great Lakes and the Seaway must agree to comply with the “Voluntary Management Practices to Reduce the Transfer of Aquatic Nuisance Species Within the Great Lakes by U.S. and Canadian Domestic Shipping” of the Lake Carriers Association and Canadian Shipowners Association dated January 26, 2001, while operating anywhere within the Great Lakes and the Seaway. For copies of the “Code of Best Practices for Ballast Water Management” and of the “Voluntary Management Practices to Reduce the Transfer of Aquatic Nuisance Species Within the Great Lakes by U.S. and Canadian Domestic Shipping” refer to the St. Lawrence Seaway Web site at http://www.greatlakes-seaway.com.

7. In § 401.74 paragraphs (a) and (g) are revised to read as follows:

§ 401.74 Transit declaration.

(a) Seaway Transit Declaration Form (Cargo and Passenger) shall be forwarded to the Manager by the representative of a ship, for each ship that has an approved preclearance except non-cargo ships, within fourteen days after the vessel enters the Seaway on any upbound or downbound transit. The form may be obtained from the St. Lawrence Seaway Management Corporation, 151 Ecluse Street, St. Lambert, Quebec, J4R 2V6 or from the St. Lawrence Seaway Web site at http://www.greatlakes-seaway.com.

* * * * *

(g) Where government aid cargo is declared, appropriate Canadian or U.S. customs form or a stamped and signed certification letter from the U.S. or Canada Customs must accompany the transit declaration form.

* * * * *

8. In § 401.81 paragraph (a) is revised to read as follows:

§ 401.81 Reporting an Accident.

(a) Where a vessel on the Seaway is involved in an accident or a dangerous occurrence, the master of the vessel shall report the accident or occurrence, pursuant to the requirements of the Transportation Safety Board Regulations, to the nearest Seaway and Canadian or U.S. Coast Guard radio or traffic stations, as soon as possible and prior to departing the Seaway system.

* * * * *

Issued at Washington, DC, on December 13, 2005
Saint Lawrence Seaway Development Corporation.
Albert S. Jacquez,
Administrator.

[FR Doc. 05-24235 Filed 12-20-05; 8:45 am]

BILLING CODE 4910-61-P